DEPARTMENT OF TRANSPORTATION

Federal Aviation Administration

Public Notice for Waiver of Aeronautical Land-Use Assurance, Bolton Field Airport; Columbus, OH

AGENCY: Federal Aviation Administration, DOT.

ACTION: Notice of intent of waiver with respect to land.

SUMMARY: The Federal Aviation Administration (FAA) is considering a proposal to change a portion of the airport from aeronautical use to non-aeronautical use and to authorize the release of 13.6672 acres of airport property for an exchange of property between the Columbus Regional Airport Authority (CRAA) and the City of Columbus. The land currently houses a solid waste transfer station that will remain on the site. The land was conveyed to the City of Columbus in Deed Volume 2803, page 547 of the Recorder's Office, Franklin County, Ohio. The land was acquired by the City of Columbus with funding from Federal Grant 8-39-0026-01. There are no impacts to the airport by allowing the airport to dispose of the property. Approval does not constitute a commitment by the FAA to financially assist in the disposal of the subject airport property nor a determination of eligibility for grant-in-aid funding from the FAA. In exchange, the CRAA will receive a parcel of land (43.562 acres) currently being used as a golf course facility adjacent to Port Columbus International Airport. This parcel is partially located in the existing Runway Protection Zone for Runway 10R-28L as indicated on the approved Airport Layout Plan (ALP) for Port Columbus International Airport.

In accordance with section 47107(h) of title 49, United States Code, this notice is required to be published in the Federal Register 30 days before modifying the land-use assurance that requires the property to be used for an aeronautical purpose.

DATES: Comments must be received on or before October 24, 2005.

FOR FURTHER INFORMATION CONTACT: Mary W. Jagiello, Program Manager, Federal Aviation Administration, Great Lakes Region, Detroit Airports District Office, DET ADO-608, 11677 South Wayne Road, Suite 107, Romulus, Michigan 48174. Telephone Number (734-229-2956)/Fax Number (734-229-2950). Documents reflecting this FAA action may be reviewed at this same location or at Bolton Field Airport, Columbus, Ohio.

SUPPLEMENTARY INFORMATION: Following is a legal description of the property located in Columbus, Franklin County, Ohio, and described as follows:

Beginning at a ¾″ iron pipe and cap set at the northwesterly corner of the said 110.86 acre tract and being in the centerline of Georgesville road; Thence north 76°35′37″ East along the centerline of said Georgesville Road a distance of 102.74 feet to a ¾″ iron pipe and cap set.

Thence South 1°6′50″ West passing a ¾″ iron pin at 101.25 feet on the southerly right of way line of said Georgesville Road and the northwest corner of a 16.715 acre tract conveyed to Robert Eicholt, Rita J. Sabatino, John R. Hetrick as recorded in OR13962G03, Recorder's Office Franklin County, Ohio and continuing along the westerly line of the said 16.715 acre tract and easterly line of said 110.86 acre tract, a total distance of 596.98 feet to a ¾″ iron pipe and cap set;

Thence South 88°49′46″ East along the southerly line of the said 16.715 acre tract and a northerly line of said 110.86 acre tract a distance of 676.04 feet to a ¾″ iron pipe and cap set;

Thence South 1°10′14″ West a distance of 692.21 feet to a ¾″ iron pipe and cap set;

Thence North 88°49′46″ West a distance of 775.35 feet to a ¾″ iron pipe and cap set in the westerly line of said 110.86 acre tract and easterly line of the Southwest Airport Industrial Park, Section 2 and recorded in Plat Book 45, page 73 of the Recorder's Office, Franklin County, Ohio;

Thence North 01°06′50″ East along the westerly line of the said 110.86 acre tract and the easterly line of the said Southwest Airport Industrial Park, Section 2, passing a ¾″ iron pipe at a distance of 1160.84 feet and being the northeast corner of Lot 1 of said Southwest Airport Industrial Park, Section 2 and the southerly right-of-way line of said Georgesville Road, a total distance of 1263.19 feet to the place of beginning, containing 13.6672 acres of land and being subject to all legal highways, easements and restrictions of record.

Bearings are based on State Plane Coordinates NAD 83. All ¾″ iron pipes and caps set has the logo S5669.

Dated: Issued in Romulus, Michigan on August 5, 2005.
Winsome A. Lenfert,
Acting Manager, Detroit Airports District Office FFA, Great Lakes Region.

[FR Doc. 05-18933 Filed 9-21-05; 8:45 am]

BILLING CODE 4910-13-M